NUCLEAR REGULATORY COMMISSION

[Docket No. 40-09075; NRC-2012-0277]

Issuance of Materials License and Record of Decision for Powertech (USA) Inc., Dewey-Burdock Facility

AGENCY: Nuclear Regulatory Commission.

ACTION: License and record of decision; issuance.

SUMMARY: The U.S. Nuclear Regulatory Commission (NRC) has issued a license to Powertech (USA) Inc. (Powertech (USA)) for its Dewey-Burdock Uranium In-Situ Recovery (ISR) Facility in Fall River and Custer Counties, South Dakota. Materials License SUA-1600 authorizes Powertech (USA) to operate its facilities as proposed in its license application, as amended, and to possess uranium source and byproduct material at the Dewey-Burdock Facility. Furthermore, Powertech (USA) will be required to operate under the conditions listed in Materials License SUA-1600. In addition, the NRC staff has published a record of decision (ROD) that supports the NRC's decision to approve Powertech (USA)'s license application for the Dewey-Burdock Facility and to issue the license.

ADDRESSES: Please refer to Docket ID NRC-2012-0277 when contacting the NRC about the availability of information regarding this document. You may access publicly-available information related to this document using any of the following methods:

• Federal Rulemaking Web site: Go to http://www.regulations.gov and search for Docket ID NRC-2012-0277. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced. In addition, for the convenience of the reader, the ADAMS accession numbers are provided in a table in the section of this document entitled, SUPPLEMENTARY INFORMATION.

• NRC's PDR: You may examine and purchase copies of public documents at the NRC's PDR, Room O1-F21, One White Flint North, 11555 Rockville Pike, Rockville, Maryland 20852.

FOR FURTHER INFORMATION CONTACT: Ron Burrows, Office of Federal and State Materials and Environmental Management Programs, U.S. Nuclear Regulatory Commission, Washington DC 20555-0001; telephone: 301-415-6443; email: Ronald.Burrows@nrc.gov.

SUPPLEMENTARY INFORMATION: The NRC has issued a license to Powertech (USA) Inc. (Powertech (USA)) for its Dewey-Burdock Uranium In-Situ Recovery (ISR) Facility in Fall River and Custer Counties, South Dakota. Materials License SUA-1600 authorizes Powertech (USA) to operate its facilities as proposed in its license application, as amended, and to possess uranium source and byproduct material at the Dewey-Burdock Facility. Furthermore, Powertech (USA) will be required to operate under the conditions listed in Materials License SUA-1600. The NRC staff's ROD that supports the NRC's decision to approve Powertech (USA)'s license application for the Dewey-Burdock Facility and to issue the license is available in ADAMS under Accession No. ML14066A466.

In accordance with 10 CFR 2.390 of the NRC's “Rules of Practice,” the details with respect to this action, including the SER and accompanying documentation and license, are available electronically in the NRC Library at http://www.nrc.gov/reading-rm/adams.html. From this site, you can access the NRC's Agencywide Document Access and Management System (ADAMS), which provides text and image files of the NRC' public documents. The ADAMS accession numbers for the documents related to this notice are:

1 | Applicant's Application, February 28, 2009 | ML091200014
2 | Generic Environmental Impact Statement for In-Situ Leach Uranium Milling Facilities, May 2009 | ML091530075
3 | Resubmission of Application, August 10, 2009 | ML092870160
4 | Response to Request for Additional Information, August 12, 20110 | ML102380530
5 | Response to Request for Additional Information, June 28, 2011 | ML112071064
6 | Ground Water Model, February 27, 2012 | ML120620195
7 | Clarification of Oxidation-Reduction Potential Measurement, April 11, 2012 | ML121030013
8 | Clarification of Regional Meteorological Data, June 13, 2012 | ML12173A038
9 | Clarification of Response to Request for Additional Information, June 27, 2012 | ML12179A534
10 | Supplemental Sampling Plan and Responses to Comments Regarding Draft License; October 19, 2012 | ML12305A056
11 | Comments on Draft Supplemental Environment Impact Statement, January 8, 2013 | ML13022A386
12 | Supplemental Environmental Impact Statement for the Dewey-Burdock ISR Facility in Fall River and Custer Counties, South Dakota, January 31, 2014 | ML14024A477 ML14024A478
13 | Programmatic Agreement for Protection of Cultural Resources, Executed April 7, 2014 | ML14066A344
14 | NRC Safety Evaluation Report, April 8, 2014 | ML14043A347
15 | Source Materials License for Dewey-Burdock, April 8, 2014 | ML14043A392
15 | NRC Staff's Record of Decision, April 8, 2014 | ML14066A466

Dated at Rockville, Maryland, this 8th day of April, 2014.
For the Nuclear Regulatory Commission.
Andrew Persinko,
Deputy Director, Decommissioning and Uranium Recovery Licensing Directorate, Division of Waste Management and Environmental Protection, Office of Federal and State Materials and Environmental Management Programs.

[FR Doc. 2014-08546 Filed 4-14-14; 8:45 am]

BILLING CODE 7590-01-P